NATIONAL ARCHIVES AND RECORDS ADMINISTRATION

[NARA-2019-015]

Change in Comment Process for Records Schedules

AGENCY: National Archives and Records Administration (NARA).

ACTION: Notice.

SUMMARY: We are changing the process for public review of and comment on records schedules (Federal agency requests for records disposition authority) to rely on the Federal eRulemaking Portal, at https://www.regulations.gov.

DATES: This change will take place on March 4, 2019.

ADDRESSES: National Archives and Records Administration, Records Management Operations (ACR), Room 2200, 8601 Adelphi Road, College Park, MD 20740-6001.

FOR FURTHER INFORMATION CONTACT: Margaret Hawkins, Director, Records Management Operations, by mail at the address above, by phone at 301.837.1799, or by email at request.schedule@nara.gov. Please also contact us for information on submitting your comment by another means if you are unable to use regulations.gov or wish to include confidential information in a comment.

SUPPLEMENTARY INFORMATION: NARA publishes notices in the Federal Register for records schedules in which agencies propose to destroy records they no longer need to conduct agency business. NARA invites public comments on such records schedules, as required by 44 U.S.C. 3303a(a).

Each year, Federal agencies create billions of records. To control this accumulation, agencies prepare schedules proposing periods for retaining and disposing of records. These schedules, when approved by NARA, provide for transfer into the National Archives of permanent, historically valuable records and authorize disposal of all other records after the agency no longer needs them to conduct its business.

Agencies may not destroy Federal records without the approval of the Archivist of the United States. The Archivist grants this approval only after thoroughly considering the administrative use needs of the agency that originated the records, the rights of the Government and of private people directly affected by the Government's activities, and whether or not the records have historical or other value. Public notice, review, and comment on proposed records schedules is part of the Archivist's consideration process.

Currently, we publish notice in the Federal Register of records schedules open for comment, but people who wish to review and comment on the schedules must request copies of the actual documents, submit comments, and receive responses via mail or email. The new process will allow people to review and comment on open records schedules and accompanying appraisal memoranda at the Federal eRulemaking Portal, https://www.regulations.gov. We will also post consolidated responses to comments at the same location.

Under the new process, we will post batches of records schedules to regulations.gov as “other” documents in the same docket as the notice. The schedules and related memoranda will remain open for comment for a period of 45 days. You will be able to comment on individual schedules at regulations.gov on or before the deadline stated in the notice. We will not accept late comments.

Comments you submit on regulations.gov, including any personal information and attachments, will be posted to the public docket unchanged. Because comments are public, commenters are responsible for ensuring that you do not include any confidential or other information that you or a third party may not wish to be publicly posted. If you want to submit a comment with confidential information or cannot otherwise use the regulations.gov portal, you should contact request.schedule@nara.gov for instructions on submitting your comment.

We will consider all comments received by the posted deadline and consult as needed with the Federal agency seeking the disposition authority. After considering comments, we will post on regulations.gov a “Consolidated Response” summarizing the comments, responding to them, and noting any changes we have made to the proposed records schedule. We will then send the schedule for final approval by the Archivist of the United States. You may elect at regulations.gov to receive updates on the docket, including an alert when we post the Consolidated Response, whether or not you submit a comment.

Copies of schedules and consolidated responses will remain on the regulations.gov website after the comment period has passed, although all commenting features will be disabled when the comment period ends.

We will post schedules on our website in the Records Control Schedule (RCS) Repository, at https://www.archives.gov/records-mgmt/rcs, within two or three weeks after the Archivist approves them. The RCS contains all schedules approved since 1973.

This new process eliminates the need to request copies of the schedules and appraisal memoranda, as has been the process since 1985. You will also no longer need to email or send comments on proposed records schedules, but will instead be able to provide comments directly on regulations.gov. The comment period is also being extended from 30 days to 45 days.

We are making this change as a result of clear, widespread interest from the public in a web-based platform for a more modern, transparent, and efficient review and comment process. We are interested in receiving feedback on this new process and will continuously strive to improve the experience for public review of proposed records schedules. You may send feedback to us any time at request.schedule@nara.gov.

Laurence Brewer,
Chief Records Officer for the U.S. Government.

[FR Doc. 2019-03826 Filed 3-1-19; 8:45 am]

BILLING CODE 7515-01-P